ENVIRONMENTAL PROTECTION AGENCY

40 CFR Part 52

[EPA-R09-OAR-2012-0236; FRL-9690-9]

Withdrawal of Direct Final Rule Revising the California State Implementation Plan, South Coast Air Quality Management District

AGENCY: Environmental Protection Agency (EPA).

ACTION: Withdrawal of direct final rule.

SUMMARY: On June 1, 2012 (77 FR 32398), EPA published a direct final approval of a revision to the California State Implementation Plan (SIP). This revision concerned South Coast Air Quality Management District (SCAQMD) Rule 1156, Further Reductions of Particulate Emissions from Cement Manufacturing Facilities. The direct final action was published without prior proposal because EPA anticipated no adverse comment. The direct final rule stated that if adverse comments were received by July 2, 2012, EPA would publish a timely withdrawal in the Federal Register. EPA received a timely adverse comment. Consequently, with this revision we are withdrawing the direct final approval of SCAQMD Rule 1156. EPA will either address the comment in a subsequent final action based on the parallel proposal also published on June 1, 2012 (77 FR 32398), or repropose an alternative action. As stated in the parallel proposal, EPA will not institute a second comment period on a subsequent final action.

DATES: The addition of 40 CFR 52.220 (c)(362)(i)(B)(2) published at 77 FR 32398 on June 1, 2012 is withdrawn as of July 2, 2012.

ADDRESSES: EPA has established docket number EPA-R09-OAR-2012-0236 for this action. Generally, documents in the docket for this action are available electronically at www.regulations.gov and in hard copy at EPA Region IX, 75 Hawthorne Street, San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Christine Vineyard, EPA Region IX, (415) 947-4125, vineyard.christine@epa.gov.

List of Subjects in 40 CFR Part 52

Environmental protection, Air pollution control, Incorporation by reference, Intergovernmental relations, Nitrogen dioxide, Ozone, Particulate matter, Reporting and recordkeeping requirements.

Dated: June 11, 2012.
Jared Blumenfeld,
Regional Administrator, Region IX.

Accordingly, the amendment to 40 CFR 52.220 published in the Federal Register on June 1, 2012 (77 FR 32398) which was to become effective on July 31, 2012 is withdrawn.

[FR Doc. 2012-15724 Filed 6-29-12; 8:45 am]

BILLING CODE P